SMALL BUSINESS ADMINISTRATION

Military Reservist Economic Injury Disaster Loans Interest Rate for Second Quarter FY 2017

In accordance with the Code of Federal Regulations 13—Business Credit and Assistance § 123.512, the following interest rate is effective for Military Reservist Economic Injury Disaster Loans approved on or after January 27, 2017.

Military Reservist Loan Program: 3.150%.

Dated: February 13, 2017.
James E. Rivera,
Associate Administrator for Disaster Assistance.

[FR Doc. 2017-03244 Filed 2-16-17; 8:45 am]

BILLING CODE P